DEPARTMENT OF TRANSPORTATION

Federal Aviation Administration

14 CFR Part 71

[Docket No. FAA-2019-0124; Airspace Docket No. 18-ASO-18]

RIN 2120-AA66

Establishment and Amendment of Area Navigation (RNAV) Routes; Southeastern United States

AGENCY: Federal Aviation Administration (FAA), DOT.

ACTION: Final rule.

SUMMARY: This action establishes 2 new low altitude RNAV routes T-239 and T-258; and modifies 3 existing RNAV routes T-290, T-292, and T-294 in the southeastern United States. The action expands the availability of RNAV routing in support of transitioning the National Airspace System (NAS) from ground-based to satellite-based navigation.

DATES: Effective date 0901 UTC, January 30, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure in the National Airspace System as necessary to preserve the safe and efficient flow of air traffic.

History

The FAA published a notice of proposed rulemaking in the Federal Register for Docket No. FAA-2019-0124 (84 FR 9048; March 13, 2019) to establish new low altitude RNAV routes T-239, and T-258, and modify 3 existing RNAV routes T-290, T-292, and T-294 in the southeastern United States. Interested parties were invited to participate in this rulemaking effort by submitting written comments on the proposal. One comment was received. The commenter expressed support for the proposal.

Low altitude RNAV T-routes are published in paragraph 6011 of FAA Order 7400.11D dated August 8, 2019, and effective September 15, 2019, which is incorporated by reference in 14 CFR 71.1. The T-routes listed in this document will be subsequently published in the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Difference From the NPRM

In the proposed description of route T-239, the ZATEL, MS, Fix was located between the GANTT, MS, WP, and the ICAVY, MS, Fix. This caused a slight bend in the route between the GANTT WP and the ICAVY Fix. The FAA determined that the ZATEL Fix is not required for that segment of T-239. To eliminate the bend, the ZATEL, WP is removed from the route description. This minor adjustment results in a straight route segment between the GANTT WP and the ICAVY Fix.

The Rule

The FAA is amending Title 14 Code of Federal Regulations (14 CFR) part 71 to establish two new low altitude RNAV routes: T-239 and T-258; and to amend three existing routes: T-290, T-292, and T-294, in the southeastern United States. The FAA is taking this action in preparation for the planned decommissioning of the Talladega, AL, VHF Omni-Directional Range/Distance Measuring Equipment (VOR/DME); the Crimson, AL, VHF Omni-Directional Range and Tactical Air Navigation System (VORTAC); the Kewanee, MS, VORTAC; and the Hamilton, AL, VORTAC.

T-239: T-239 is a new route that extends between the Pecan, GA, (PZD) VOR/DME (northwest of Albany, GA), northwestward through the State of Alabama to the GOINS, MS, waypoint (WP) (near the Holly Springs, MS, (HLI) VORTAC). T-239 overlies VOR Federal airway V-159 between the Pecan, GA, VOR/DME and the GOINS, MS, WP.

T-258: T-258 is a new route that extends between the MINIM, AL, fix, (24 NM northeast of the Bigbee, MS, (IGB) VORTAC), eastward across Alabama, to the CANER, GA, fix (approximately 21 NM northeast of Columbus, GA). T-258 overlies airway V-245 from the MINIM, AL, navigation fix eastward to the CRMSN, AL, WP; and it overlies airway V-66 from the CRMSN, AL, WP eastward to the CANER, GA, Fix.

T-290: T-290 is an existing route that extends between the SCAIL, AL, WP, and the JACET, GA, WP. Under this change, the western end of the route begins at the HABJE, MS, Fix (located approximately 15 NM west of the Meridian, MS (MEI), VORTAC. The route then proceeds eastward to the Meridian, MS, (MEI), VORTAC, through the KWANE, MS, WP, and the RABEC, AL, WP to the Montgomery, AL (MGM), VORTAC, and then northeastward to the SCAIL, AL, WP. From the SCAIL, AL, WP, T-290 proceeds to the JACET, GA, WP as currently charted. T-290 overlies VOR Federal airway V-56 between the Meridian, MS, (MEI), VORTAC and the Montgomery, AL, (MGM), VORTAC.

T-292: T-292 is an existing route that extends between the RKMRT, GA, WP, and the JACET, GA, WP. The western end of T-292 is amended to begin at the Semmes, AL, (SJI), VORTAC. From that point, it proceeds northward through the BURIN, AL; the HAZEY, AL; the YARBO, AL; the ANTUH, AL; and the JANES, AL, fixes to the KWANE, MS, WP. The route then turns northeastward through the EUTAW, AL, and the MOVIL, AL, fixes; then through the Brookwood, AL, (OKW), VORTAC; the VLKNN, AL, WP; the HOKES, AL, and the MAYES, AL, fixes; then to the RKMRT, GA, WP, from which point it proceeds as currently charted to the JACET, GA, WP. The amended route overlies a portion of VOR Federal airway V-417 between the MAYES, AL, WP, and the Vulcan, AL, (VUZ), VORTAC; and overlies Federal airway V-209 between the Vulcan, AL, VORTAC and the Semmes, AL, VORTAC.

T-294: T-294 is an existing route that extends between the HEFIN, AL, fix and the GRANT, GA, fix. This action extends the route from the HEFIN, AL, Fix, westward to the HABJE, MS, Fix (located 15 NM west of the Meridian, MS, (MEI), VORTAC. The amended route overlies VOR Federal airway V-18 between the HABJE, MS, fix and the HEFIN, AL, fix.

The existing latitude/longitude coordinates in the descriptions of T-290, T-292, and T-294 are updated to the hundredths of a second place to provide greater accuracy.

Full route descriptions of the above routes are listed in “The Amendment” section, below.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action establishing RNAV routes T-239 and T-258, and modifying RNAV routes T-290, T-292, and T-294, in the southeastern United States, qualifies for categorical exclusion under the National Environmental Policy Act and its implementing regulations at 40 CFR part 1500, and in accordance with FAA Order 1050.1F, Environmental Impacts: Policies and Procedures. The applicable categorical exclusion in FAA Order 1050.1F is paragraph 5-6.5g, Establishment of Global Positioning System (GPS), Area Navigation/Required Navigation Performance (RNAV/RNP), or essentially similar systems that use overlay of existing flight tracks. This action is not expected to cause any potentially significant environmental impacts. In accordance with FAA Order 1050.1F, paragraph 5-2 regarding Extraordinary Circumstances, the FAA has reviewed this action for factors and circumstances in which a normally categorically excluded action may have a significant environmental impact requiring further analysis. The FAA has determined no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6011 United States Area Navigation Routes.

* * * * *

T-239 Pecan, GA (PZD) to GOINS, MS [New]
Pecan, GA (PZD) | VOR/DME | (Lat. 31°39′18.74″ N, long. 084°17′35.16″ W)
SHANY, GA | Fix | (Lat. 31°45′05.09″ N, long. 084°33′49.37″ W)
AYUVO, GA | Fix | (Lat. 31°45′50.73″ N, long. 084°35′58.47″ W)
SAWES, GA | Fix | (Lat. 31°50′59.68″ N, long. 084°50′36.02″ W)
AXOSE, GA | Fix | (Lat. 31°53′13.32″ N, long. 084°56′57.43″ W)
Eufaula, AL (EUF) | VORTAC | (Lat. 31°57′00.90″ N, long. 085°07′49.73″ W)
MILER, AL | Fix | (Lat. 32°12′57.74″ N, long. 085°23′50.35″ W)
Tuskegee, AL (TGE) | VOR/DME | (Lat. 32°29′05.53″ N, long. 085°40′09.55″ W)
KENTT, AL | Fix | (Lat. 32°36′42.77″ N, long. 085°47′57.33″ W)
SEMAN, AL | Fix | (Lat. 32°46′20.97″ N, long. 085°57′49.44″ W)
NIXBY, AL | Fix | (Lat. 32°55′34.52″ N, long. 086°07′19.96″ W)
FAYEZ, AL | Fix | (Lat. 33°00′38.93″ N, long. 086°12′34.80″ W)
KYLEE, AL | Fix | (Lat. 33°09′41.04″ N, long. 086°21′57.72″ W)
ADZIN, AL | Fix | (Lat. 33°10′36.99″ N, long. 086°22′56.20″ W)
HANDE, AL | Fix | (Lat. 33°18′44.40″ N, long. 086°31′24.44″ W)
VLKNN, AL | WP | (Lat. 33°40′12.49″ N, long. 086°53′59.42″ W)
NEGEE, AL | Fix | (Lat. 33°48′12.56″ N, long. 087°10′36.89″ W)
CORES, AL | Fix | (Lat. 33°50′07.18″ N, long. 087°14′36.71″ W)
CHOOK, AL | Fix | (Lat. 33°56′04.62″ N, long. 087°27′21.41″ W)
EXIST, AL | Fix | (Lat. 33°59′37.53″ N, long. 087°34′53.35″ W)
FOGUM, AL | Fix | (Lat. 34°06′25.32″ N, long. 087°49′24.16″ W)
SWIKI, AL | WP | (Lat. 34°11′55.87″ N, long. 088°00′42.44″ W)
GANTT, MS | WP | (Lat. 34°26′42.26″ N, long. 088°38′57.39″ W)
ICAVY, MS | Fix | (Lat. 34°29′51.00″ N, long. 088°47′03.66″ W)
GOINS, MS | WP | (Lat. 34°46′12.64″ N, long. 089°29′46.81″ W)
T-258 MINIM, AL to CANER, GA [New]
MINIM, AL | Fix | (Lat. 33°32′31.14″ N, long. 088°02′23.62″ W)
CAYAP, AL | Fix | (Lat. 33°19′27.01″ N, long. 087°39′08.35″ W)
CRMSN, AL | WP | (Lat. 33°15′31.80″ N, long. 087°32′12.70″ W)
ZIVMU, AL | Fix | (Lat. 33°14′58.61″ N, long. 087°23′53.53″ W)
Brookwood, AL (OKW) | VORTAC | (Lat. 33°14′16.31″ N, long. 087°14′59.52″ W)
HEENA, AL | Fix | (Lat. 33°12′24.62″ N, long. 086°52′15.28″ W)
KYLEE, AL | Fix | (Lat. 33°09′41.04″ N, long. 086°21′57.72″ W)
CAMPP, AL | Fix | (Lat. 33°06′10.39″ N, long. 085°44′51.08″ W)
Lagrange, GA (LGC) | VORTAC | (Lat. 33°02′56.83″ N, long. 085°12′22.40″ W)
LANGA, GA | Fix | (Lat. 32°55′34.17″ N, long. 084°56′59.00″ W)
CANER, GA | Fix | (Lat. 32°45′21.48″ N, long. 084°35′51.42″ W)
T-290 HABJE, MS to JACET, GA [Amended]
HABJE, MS | Fix | (Lat. 32°23′32.11″ N, long. 089°05′56.57″ W)
Meridian, MS (MEI) | VORTAC | (Lat. 32°22′42.38″ N, long. 088°48′15.36″ W)
KWANE, MS | WP | (Lat. 32°22′00.47″ N, long. 088°27′29.43″ W)
RABEC, AL | WP | (Lat. 32°16′11.64″ N, long. 086°58′01.67″ W)
Montgomery, AL (MGM) | VORTAC | (Lat. 32°13′20.21″ N, long. 086°19′11.02″ W)
SCAIL, AL | WP | (Lat. 33°02′01.32″ N, long. 085°39′31.56″ W)
BBAIT, GA | WP | (Lat. 33°07′14.23″ N, long. 084°46′13.19″ W)
BBASS, GA | WP | (Lat. 33°11′32.70″ N, long. 083°59′21.10″ W)
BBOAT, GA | WP | (Lat. 33°16′50.57″ N, long. 083°28′10.00″ W)
BOBBR, GA | WP | (Lat. 33°19′57.07″ N, long. 083°08′19.47″ W)
JACET, GA | WP | (Lat. 33°29′41.42″ N, long. 082°06′27.81″ W)
T-292 Semmes, AL (SJI) to JACET, GA [Amended]
Semmes, AL (SJI) | VORTAC | (Lat. 30°43′33.53″ N, long. 088°21′33.46″ W)
BURIN, AL | Fix | (Lat. 30°58′43.51″ N, long. 088°22′47.31″ W)
HAZEY, AL | Fix | (Lat. 31°15′33.23″ N, long. 088°24′09.75″ W)
YARBO, AL | Fix | (Lat. 31°26′30.60″ N, long. 088°25′03.67″ W)
ANTUH, AL | Fix | (Lat. 31°33′10.56″ N, long. 088°25′36.47″ W)
JANES, AL | Fix | (Lat. 31°45′57.15″ N, long. 088°26′06.08″ W)
KWANE, MS | WP | (Lat. 32°22′00.47″ N, long. 088°27′29.43″ W)
EUTAW, AL | Fix | (Lat. 32°49′03.81″ N, long. 087°50′20.52″ W)
MOVIL, AL | Fix | (Lat. 33°01′24.91″ N, long. 087°33′09.96″ W)
Brookwood, AL (OKW) | VORTAC | (Lat. 33°14′16.31″ N, long. 087°14′59.52″ W)
VLKNN, AL | WP | (Lat. 33°40′12.49″ N, long. 086°53′59.42″ W)
HOKES, AL | Fix | (Lat. 33°55′30.08″ N, long. 085°50′33.20″ W)
MAYES, AL | Fix | (Lat. 33°58′20.32″ N, long. 085°49′15.34″ W)
RKMRT, GA | WP | (Lat. 34°03′36.73″ N, long. 085°15′02.63″ W)
POLLL, GA | WP | (Lat. 34°08′57.26″ N, long. 084°46′49.54″ W)
CCATT, GA | WP | (Lat. 34°16′14.97″ N, long. 084°09′05.36″ W)
REELL, GA | WP | (Lat. 34°01′32.51″ N, long. 083°31′44.10″ W)
TRREE, GA | WP | (Lat. 33°47′14.78″ N, long. 082°55′30.22″ W)
JACET, GA | WP | (Lat. 33°29′41.42″ N, long. 082°06′27.81″ W)
T-294 HABJE, MS to GRANT, GA [Amended]
HABJE, MS | Fix | (Lat. 32°23′32.11″ N, long. 089°05′56.57″ W)
Meridian, MS (MEI) | VORTAC | (Lat. 32°22′42.38″ N, long. 088°48′15.36″ W)
NOSRY, MS | Fix | (Lat. 32°29′06.87″ N, long. 088°39′10.26″ W)
BOYDD, AL | Fix | (Lat. 32°41′52.58″ N, long. 088°20′57.71″ W)
ALICE, AL | Fix | (Lat. 32°59′03.95″ N, long. 087°56′12.06″ W)
CRMSN, AL | WP | (Lat. 33°15′31.80″ N, long. 087°32′12.70″ W)
SITES, AL | Fix | (Lat. 33°24′28.11″ N, long. 087°18′27.10″ W)
OAKGO, AL | Fix | (Lat. 33°27′13.10″ N, long. 087°14′11.79″ W)
WUNET, AL | Fix | (Lat. 33°31′40.47″ N, long. 087°07′17.21″ W)
VLKNN, AL | WP | (Lat. 33°40′12.49″ N, long. 086°53′59.42″ W)
TRUST, AL | Fix | (Lat. 33°38′21.99″ N, long. 086°36′58.83″ W)
JOTAV, AL | Fix | (Lat. 33°36′18.25″ N, long. 086°18′24.59″ W)
NOPVE. AL | Fix | (Lat. 33°35′27.30″ N, long. 086°10′51.81″ W)
DEGAA, AL | WP | (Lat. 33°34′30.58″ N, long. 086°02′32.96″ W)
KOCEY, AL | Fix | (Lat. 33°35′20.40″ N, long. 085°41′02.32″ W)
LAYIN, AL | Fix | (Lat. 33°35′38.39″ N, long. 085°32′50.84″ W)
HEFIN, AL | Fix | (Lat. 33°35′54.75″ N, long. 085°25′10.57″ W)
BBAIT, GA | WP | (Lat. 33°07′14.23″ N, long. 084°46′13.19″ W)
JMPPR, GA | WP | (Lat. 32°57′42.02″ N, long. 084°33′18.56″ W)
GRANT, GA | Fix | (Lat. 32°49′44.96″ N, long. 084°22′36.39″ W)

* * * * *

Issued in Washington, DC, on November 20, 2019.
Rodger A. Dean, Jr.,
Manager, Rules and Regulations Group.

[FR Doc. 2019-25553 Filed 11-25-19; 8:45 am]

BILLING CODE 4910-13-P